DEPARTMENT OF THE TREASURY

Office of Foreign Assets Control

Notice of OFAC Sanctions Actions.

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On March 23, 2018, OFAC determined that the property and interests in property subject to U.S. jurisdiction of the following persons are blocked under the relevant sanctions authority listed below.

Individuals

1. MESRI, Behzad (a.k.a. “Skote Vahshat”); DOB 26 Aug 1988; alt. DOB 27 Aug 1988; POB Naghadeh, Iran; nationality Iran; Additional Sanctions Information—Subject to Secondary Sanctions; Gender Male (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

2. MOHAMMADI, Ehsan; DOB 25 Dec 1980; POB Tehran, Iran; nationality Iran; Additional Sanctions Information—Subject to Secondary Sanctions; Gender Male; Passport U21669469 (Iran) issued 25 Jul 2011 expires 24 Jul 2016; National ID No. 006-718237-2; Birth Certificate Number 7608 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

3. GOHARI MOQADAM, Abuzar (a.k.a. GOHARI MOGHADAM, Abuzar; a.k.a. GOHARIMOQADAM, Abuzar); DOB 16 Sep 1980; alt. DOB 17 Sep 1980; POB Zabol, Iran; nationality Iran; Additional Sanctions Information—Subject to Secondary Sanctions; Gender Male; Passport V29385211 (Iran) issued 19 Feb 2014 expires 19 Feb 2019; National ID No. 367-353055-063; Birth Certificate Number 455 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

4. KARIMA, Abdollah (a.k.a. “VAHID”); DOB 21 Mar 1979; POB Mashhad, Iran; nationality Iran; Additional Sanctions Information—Subject to Secondary Sanctions; Gender Male; National ID No. 093-343402-2; Birth Certificate Number 4043 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

5. RAFATNEJAD, Gholamreza (a.k.a. RAFAT NEJAD, Gholamreza); DOB 23 May 1979; POB Tabriz, Iran; nationality Iran; Additional Sanctions Information—Subject to Secondary Sanctions; Gender Male; National ID No. 137-582394-9; Birth Certificate Number 365 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

6. SABAHI, Roozbeh; DOB 08 Mar 1994; alt. DOB 09 Mar 1994; POB Iran; nationality Iran; Additional Sanctions Information—Subject to Secondary Sanctions; Gender Male (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

7. SABAHI, Mohammed Reza (a.k.a. SABAHI, Mohammad Reza; a.k.a. “FARAZ”); DOB 02 Dec 1991; POB Tehran, Iran; nationality Iran; Additional Sanctions Information—Subject to Secondary Sanctions; Gender Male; National ID No. 041-023144-4 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

8. SADEGHI, Mostafa; DOB 19 Jan 1990; alt. DOB 20 Jan 1990; alt. DOB 19 Jan 1991; alt. DOB 20 Jan 1991; Additional Sanctions Information—Subject to Secondary Sanctions; National ID No. 2500094065 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

9. MIRKARIMI, Seyed Ali; DOB 20 Sep 1983; POB Zanjan, Iran; nationality Iran; Additional Sanctions Information—Subject to Secondary Sanctions; Gender Male; Passport 86486868 (Iran); National ID No. 428-486320-7; Birth Certificate Number 1973 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

10. TAHMASEBI, Sajjad; DOB 19 Jun 1987; nationality Iran; Additional Sanctions Information—Subject to Secondary Sanctions; Gender Male; National ID No. 428-576368-0; Birth Certificate Number 6686 (individual) [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Entity:

1. MABNA INSTITUTE, Mirdamad, Naft Jonubi, Taban Alley, Plaque 2/1, Unit 102, Tehran, Iran; East Shahid Hemmat Highway, North Emam Ali Highway, East Artesh Highway, Town of Qa'em, Banafsheh Street, Second Door, Plaque 2, Tehran, Iran; Ansariyeh Boulevard, 6th Bustan, Plaque 488, 4515736541, Zanjan, Iran; Additional Sanctions Information—Subject to Secondary Sanctions [CYBER2].

Designated pursuant to section 1(a)(ii)(D) of Executive Order 13694 of April 1, 2015, “Blocking the Property of Certain Persons Engaging in Significant Malicious Cyber-Enabled Activities” (E.O. 13694), as amended, is responsible for or complicit in, or has engaged in, directly or indirectly, cyber-enabled activities originating from, or directed by persons located, in whole or in substantial part, outside the United States that are reasonably likely to result in, or have materially contributed to, a significant threat to the national security, foreign policy, or economic health or financial stability of the United States and that have the purpose or effect of causing a significant misappropriation of funds or economic resources, trade secrets, personal identifiers, or financial information for commercial or competitive advantage or private financial gain.

Dated: March 23, 2018.
John E. Smith,
Director, Office of Foreign Assets Control.

[FR Doc. 2018-06216 Filed 3-27-18; 8:45 am]

BILLING CODE 4810-AL-P